DEPARTMENT OF LABOR

Employment and Training Administration

[TA-W-57,926]

Avery Dennison Corporation; RVL Printed Labels, Statesville, NC; Amended Certification Regarding Eligibility to Apply for Worker Adjustment Assistance

In accordance with Section 223 of the Trade Act of 1974 (19 U.S.C. 2273), the Department of Labor issued a Certification of Eligibility to Apply for Worker Adjustment Assistance on September 23, 2005, applicable to workers of Avery Dennison Corporation, Statesville, North Carolina. The notice will be published soon in the Federal Register.

At the request of the company and the State agency, the Department reviewed the certification for workers of the subject firm. The workers are engaged in the production of printed fabric labels.

New information shows that in November 2002, Avery Dennison Corporation purchased RVL Printed Labels and that workers wages at the subject firm are being reported under the Unemployment Insurance (UI) tax account for RVL Printed Labels, Statesville, North Carolina.

Accordingly, the Department is amending the certification to properly reflect this matter.

The intent of the Department's certification is to include all workers of Avery Dennison Corporation who were adversely affected by a shift in production abroad.

The amended notice applicable to TA-W-57,926 is hereby issued as follows:

“All workers of Avery Dennison Corporation, RVL Printed Labels, Statesville, North Carolina, who became totally or partially separated from employment on or after September 9, 2004, through September 23, 2007, are eligible to apply for adjustment assistance under Section 223 of the Trade Act of 1974.”

Signed at Washington, DC, this 19th day of October 2005.
Richard Church,
Certifying Officer, Division of Trade Adjustment Assistance.

[FR Doc. E5-6131 Filed 11-3-05; 8:45 am]

BILLING CODE 4510-30-P